DEPARTMENT OF TRANSPORTATION

Federal Highway Administration

Notice of Final Federal Agency Actions of Proposed Highway/Interchange Improvement in California; Statute of Limitations on Claims

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, that are final. The actions relate to the proposed Improvement Project on State Route 55 (SR-55) between Interstate 405 (I-405) and Interstate 5 (I-5) in the County of Orange, State of California. Those actions grant licenses, permits, and approvals for the project.

DATES: By this notice, the FHWA, on behalf of Caltrans, is advising the public of final agency actions subject to 23 U.S.C. 139(l)(1). A claim seeking judicial review of the Federal Agency Actions on the highway project will be barred unless the claim is filed on or before February 12, 2018. If the Federal law that authorizes judicial review of a claim provides a time period of less than 150 days for filing such claim, then that shorter time period still applies.

FOR FURTHER INFORMATION CONTACT: For Caltrans: Charles Baker, Branch Chief—Specialist Unit, Division of Environmental Analysis, California Department of Transportation—District 12, 1750 East 4th Street, Santa Ana, California, 8 a.m. to 5 p.m., (657) 328-6139, charles_baker@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans, has taken final agency actions subject to 23 U.S.C. 139(l)(1) by issuing licenses, permits, and approvals for the following highway project in the State of California. Caltrans proposes to add one general-purpose lane in the northbound and southbound directions, construct a second high-occupancy lane (HOV) in each direction between the I-405 and I-5 HOV direct connectors, and restore existing auxiliary lanes. Additionally, northbound auxiliary lanes will be constructed between the MacArthur Boulevard and Dyer Road, and the Dyer Road and Edinger Avenue interchanges. The restored auxiliary lane between the Edinger Avenue and McFadden Avenue interchanges would be extended to the northbound I-5 connector and the northbound McFadden Avenue onramp would be restricted to the northbound I-5 connector only. As a result, access from the McFadden Avenue on-ramp to northbound SR-55 and southbound I-5 would be eliminated. In the southbound direction, the existing auxiliary lane between the McFadden Avenue and Edinger Avenue interchanges would be restored to match the existing condition. The actions by the Federal agencies, and the laws under which such actions were taken, are described in the Final Initial Study (IS) with Negative Declaration (ND)/Environmental Assessment (EA) with Finding of No Significant Impact (FONSI), approved on August 31, 2017. The Final IS/EA with ND/FONSI, and other project records are available by contacting Caltrans at the addresses provided above. The Caltrans Final IS/EA with ND/FONSI can be viewed and downloaded from the project Web site at: http://www.dot.ca.gov/d12/DEA/55/0J340/index.html. This notice applies to all Federal agency decisions as of the issuance date of this notice and all laws under which such actions were taken, including but not limited to:

(1) Council on Environmental Quality regulations;

(2) National Environmental Policy Act (NEPA);

(3) Moving Ahead for Progress in the 21st Century Act (MAP-21);

(4) Department of Transportation Act of 1966;

(5) Federal Aid Highway Act of 1970;

(6) Clean Air Act Amendments of 1990;

(7) Noise Control Act of 1970;

(8) 23 CFR part 772 FHWA Noise Standards, Policies and Procedures;

(9) Department of Transportation Act of 1966, Section 4(f);

(10) Clean Water Act of 1977 and 1987;

(11) Endangered Species Act of 1973;

(12) Migratory Bird Treaty Act;

(13) National Historic Preservation Act of 1966, as amended;

(14) Historic Sites Act of 1935; and,

(15) Executive Order 13112, Invasive Species.

(Catalog of Federal Domestic Assistance Program Number 20.205, Highway Planning and Construction. The regulations implementing Executive Order 12372 regarding intergovernmental consultation on Federal Programs and activities apply to this program.)

Authority: 23 U.S.C. 139(l)(1)

Tashia J. Clemons,
Director of Program Development, Federal Highway Administration, Sacramento, CA.

[FR Doc. 2017-19518 Filed 9-13-17; 8:45 am]

BILLING CODE 4910-RY-P